NATIONAL SCIENCE FOUNDATION

Committee Management; Notice of Establishment

The Director of the National Science Foundation has determined that the establishment of the Proposal Review Panel for Emerging Frontiers in Biological Sciences necessary and in the public interest in connection with the performance of duties imposed upon the National Science Foundation (NSF), by 42 U.S.C. 1861 et seq. This determination follows consultation with the Committee Management Secretariat, General Services Administration.

Name of Committee: Proposal Review Panel for Emerging Frontiers in Biological Sciences (#44011).

Purpose: To advise the National Science Foundation on the merit of proposals requesting financial support for research and research-related activities under the purview of the Office of Emerging Frontiers located in the Directorate of Biological Sciences.

Responsible NSF Official: William Zamer, Office Director, Emerging Frontiers, Directorate for Biological Sciences, National Science Foundation, 4201 Wilson Boulevard, Arlington, VA 22230. Telephone: 703/292-8400.

Dated: July 8, 2009.
Susanne Bolton,
Committee Management Officer.

[FR Doc. E9-16454 Filed 7-10-09; 8:45 am]

BILLING CODE 7555-01-P